ENVIRONMENTAL PROTECTION AGENCY

40 CFR Part 180

[EPA-HQ-OPP-2019-0041; FRL-10001-11]

Receipt of a Pesticide Petition Filed for Residues of Pesticide Chemicals in or on Various Commodities (September 2019)

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before November 27, 2019.

ADDRESSES: Submit your comments, identified by docket identification (ID) number by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Amended Tolerances for Non-Inerts

1. PP 9E8771. (EPA-HQ-OPP-2019-0460). The Interregional Research Project No. 4 (IR-4), Rutgers, The State University of New Jersey, 500 College Road East, Suite 201 W, Princeton, NJ 08540, proposes upon establishment of tolerances referenced in this document under “New Tolerances” for PP# 9E8771, to remove existing tolerances in 40 CFR 180.679 for residues of the insecticide flupyradifurone, 4-[[(6-chloro-3-pyridinyl)methyl](2,2-difluoroethyl)amino]-2(5H)-furanone, including its metabolites and degradates in or on Brassica, head and stem subgroup 5A at 6.0 parts per million (ppm); Brassica, leafy greens subgroup 5B at 40 ppm; cactus, fruit at 0.30 ppm; cilantro, fresh leaves at 30 ppm; coffee, green bean (import tolerance) at 1.5 ppm; leaf petioles, subgroup 4B at 9.0 ppm; leafy greens, subgroup 4A at 30 ppm; pitaya at 0.30 ppm; and yurnip greens at 40 ppm. Contact: RD.

2. PP 9F8770. (EPA-HQ-OPP-2019-0523). BASF Corporation, 26 Davis Drive, P.O. Box 13528, Research Triangle Park, North Carolina 27709-3528, requests to amend the tolerance in 40 CFR 180.463 for residues of the herbicide quinclorac in or on rice, grain at 10.0 ppm. A high-performance liquid chromatography/tandem mass spectrometry (LC/MS/MS) enforcement analytical method is used to measure and evaluate the chemical quinclorac. Contact: RD.

B. New Tolerance Exemptions for Inerts (Except PIPs)

1. PP IN-11342. (EPA-HQ-OPP-2019-0549). Solvay USA Inc., c/o SciReg, Inc., 12733 Director's Loop, Woodbridge, VA 22192, requests to establish an exemption from the requirement of a tolerance in 40 CFR part 180.960 for residues of 2-propenoic acid, 2-methyl-, polymer with 2,5-furandione and 2,4,4-trimethyl-1-pentene, potassium salt (CAS Reg No. 1802325-28-5) with a minimum number average molecular weight of 6,000 daltons when used as an inert ingredient in pesticide formulations. The petitioner believes no analytical method is needed because it is not required for an exemption from the requirement of a tolerance. Contact: RD.

2. PP IN-11343. (EPA-HQ-OPP-2019-0548). Solvay USA Inc., c/o SciReg, Inc., 12733 Director's Loop, Woodbridge, VA 22192, requests to establish an exemption from the requirement of a tolerance in 40 CFR part 180.960 for residues of polyethyleneglycol, bis(sulfooxy)-, disodium salt (CAS Reg No. 73038-32-1) with a minimum number average molecular weight of 2,000 daltons when used as an inert ingredient in pesticide formulations. The petitioner believes no analytical method is needed because it is not required for an exemption from the requirement of a tolerance. Contact: RD.

C. New Tolerance Exemptions for Non-Inerts (Except PIPs)

PP 9E8784. EPA-HQ-OPP-2017-0335. IR-4, Rutgers, The State University of New Jersey, 500 College Rd. East, Suite 201W, Princeton, NJ 08540, requests to establish an exemption from the requirement of a tolerance in 40 CFR part 180 for residues of the herbicide Pseudomonas fluorescens strain ACK55 in or on all food commodities. The petitioner believes no analytical method is needed because an exemption from the requirement of a tolerance is being proposed. Contact: BPPD.

D. New Tolerances for Non-Inerts

1. PP 7F8572. EPA-HQ-OPP-2017-0510. FMC Corporation, 2929 Walnut Street, Philadelphia, PA 19104, requests to establish a tolerance in 40 CFR part 180 for residues of the herbicide pethoxamid in or on the raw agricultural commodities: Cattle, fat at 0.01 ppm; cattle, meat at 0.01 ppm; cattle, meat byproducts at 0.01 ppm; corn, field, grain at 0.01 ppm; corn, field, forage at 0.015 ppm; corn, field, stover at 0.02 ppm; corn, sweet, kernel plus cobb with husk removed at 0.01 ppm; corn, sweet, stover at 0.60 ppm; cotton, gin byproducts at 0.09 ppm; cotton, undelinted seed at 0.01 ppm; egg at 0.01 ppm; goat, fat at 0.01 ppm; goat, meat at 0.01 ppm; goat, meat byproducts at 0.01 ppm; hog, fat at 0.01 ppm; hog, meat at 0.01 ppm; hog, meat byproducts at 0.01 ppm; horse, fat at 0.01 ppm; horse, meat at 0.01 ppm; horse, meat byproducts at 0.01 ppm; milk at 0.01 ppm; popcorn, grain at 0.01 ppm; popcorn, stover at 0.01 ppm; poultry, fat at 0.01 ppm; poultry, meat at 0.01 ppm; poultry, meat byproducts at 0.01ppm; sheep, fat at 0.01 ppm; sheep, meat at 0.01 ppm; sheep, meat byproducts at 0.01 ppm; soybean, forage at 3.0 ppm; soybean, hay at 4.5 ppm; and soybean, seed at 0.01 ppm. An LC-MS/MS method is used to measure and evaluate the chemical pethoxamid. Contact: RD.

2. PP 8F8723. (EPA-HQ-OPP-2019-0232). Dow AgroSciences LLC, 9330 Zionsville Road, Indianapolis, IN 46268, requests to establish a tolerance in 40 CFR part 180 for residues of the herbicide nitrapyrin in or on beet, sugar, roots at 0.30 ppm; beet, sugar, molasses at 0.70; beet, sugar, tops at 0.70 ppm; canola, seed at 0.30 ppm; canola, meal at 0.80 ppm; potato, processed potato waste at 1.50 ppm; and vegetable, tuberous and corm, subgroup at 0.60 ppm. Method 205G881A-1 determines residues of nitrapyrin by extracting with deionized water and 1:1 (v/v) hexane: Toluene. Method 205G881-B1 determines residues of 6-chloropicolinic acid by extracting with aqueous 0.1 N sodium hydroxide. Both methods have been validated with four crop types including iceberg lettuce (high water), whole navel orange fruit (acidic), maize grain (dry) and canola seed (oily). Contact: RD.

3. PP 9E8771. (EPA-HQ-OPP-2019-0460). The Interregional Research Project No. 4 (IR-4), Rutgers, The State University of New Jersey, 500 College Road East, Suite 201 W, Princeton, NJ 08540, requests to establish a tolerance in 40 CFR part 180.679 for residues of the insecticide flupyradifurone, 4-[[(6-chloro-3-pyridinyl)methyl](2,2-difluoroethyl)amino]-2(5H)-furanone, including its metabolites and degradates in or on Brassica, leafy greens, subgroup 4-16B at 40 ppm, celtuce at 9 ppm, coffee, green bean at 1.5 ppm, fennel, Florence, fresh leaves and stalk at 9 ppm, kohlrabi at 6 ppm, leaf petiole vegetable subgroup 22B at 9 ppm, leafy greens subgroup 4-16A at 30 ppm, pineapple at 0.3 ppm, tropical and subtropical, inedible peel, cactus, subgroup 24D at 0.3 ppm, tropical and subtropical, palm fruit, edible peel, subgroup 23C at 8 ppm, sesame, seed at 3 ppm, stalk and stem vegetable subgroup 22A, except prickly pear, pads, and prickly pear, Texas, pads at 0.01 ppm, sunflower subgroup 20B at 0.7 ppm, and vegetable, Brassica, head and stem, group 5-16 at 6 ppm. Additionally, (c) a tolerance with a regional restriction is being proposed for residues of the insecticide flupyradifurone, 4-[[(6-chloro-3-pyridinyl)methyl](2,2-difluoroethyl)amino]-2(5H)-furanone, including its metabolites and degradates in or on the raw agricultural commodity: Grass, forage, fodder and hay, group 17 at 15 ppm. The high-performance liquid chromatography-electrospray ionization/tandem mass spectrometry (HPLC/MS/MS) is used to measure and evaluate the chemical. Contact: RD.

4. PP 9F8775. (EPA-HQ-OPP-2019-0460). Bayer CropScience, 2 T.W. Alexander Drive, Research Triangle Park, NC 27709, requests to establish a tolerance in 40 CFR part 180 for residues of the insecticide, Flupyradifurone, in or on Rapeseed subgroup (Crop Subgroup 20A) at 0.03 ppm. The analytical method involves, solvent extraction, purification through a C-18 solid-phase extraction column, and addition of a mixture of stable, isotopically labelled internal standards. Quantitation is by HPLC/MS/MS. Contact: RD.

Authority: 21 U.S.C. 346a.

Dated: October 10, 2019.
Delores Barber,
Director, Information Technology and Resources Management Division, Office of Pesticide Programs.

[FR Doc. 2019-23355 Filed 10-25-19; 8:45 am]

BILLING CODE 6560-50-P